FEDERAL COMMUNICATIONS COMMISSION

[AU Docket No. 14-252; GN Docket No. 12-268; WT Docket No. 12-269; DA 16-89]

Revised Filing Window Dates for FCC Form 175 Application To Participate in the Forward Auction (Auction 1002)

AGENCY: Federal Communications Commission.

ACTION: Notice.

SUMMARY: This document announces revised filing window dates for FCC Form 175, the application for parties seeking to participate in the forward auction phase (Auction 1002) of the broadcast incentive auction (Auction 1000).

DATES: The forward auction FCC Form 175 filing window opened at 12:00 p.m. Eastern Time (ET) on January 27, 2016, and will close at 6:00 p.m. ET on February 10, 2016.

FOR FURTHER INFORMATION CONTACT: Wireless Telecommunications Bureau, Auctions and Spectrum Access Division: for general forward auction questions Leslie Barnes or Valerie Barrish at (202) 418-0660.

SUPPLEMENTARY INFORMATION: This is a summary of the Forward Auction Application Filing Window Opens Today at Noon After One-Day Weather Delay; FCC Form 175 Deadline Extended to February 10, 2016 (Forward Auction 1002 FCC Form 175 Revised Filing Window Dates Public Notice), AU Docket No. 14-252, GN Docket No. 12-268, WT Docket No. 12-269, DA 16-89, released on January 27, 2016. The complete text of the Forward Auction 1002 FCC Form 175 Revised Filing Window Dates Public Notice is available for public inspection and copying from 8:00 a.m. to 4:30 p.m. ET Monday through Thursday or from 8:00 a.m. to 11:30 a.m. ET on Fridays in the FCC Reference Information Center, 445 12th Street SW., Room CY-A257, Washington, DC 20554. The complete text is also available on the Commission's Web site at http://wireless.fcc.gov, the Auction 1002 Web site at http://www.fcc.gov/auctions/1002, or by using the search function on the ECFS Web page at http://www.fcc.gov/cgb/ecfs/. Alternative formats are available to persons with disabilities by sending an email to FCC504@fcc.gov or by calling the Consumer & Governmental Affairs Bureau at (202) 418-0530 (voice), (202) 418-0432 (TTY).

General Information

The Forward Auction 1002 FCC Form 175 Revised Filing Window Dates Public Notice announced that the filing window for the FCC Form 175, the application to participate in the forward auction phase of the broadcast incentive auction, opened on January 27, 2016, after a one-day delay due to severe weather in the Washington, DC area. In addition, the closing of the filing window will be extended for one day from its originally scheduled date. Specifically, the FCC Form 175 filing window opened at 12:00 p.m. ET on January 27, 2016, and will close at 6:00 p.m. ET on February 10, 2016. Applications must be filed prior to the closing of the filing window. All other procedures, terms and requirements as set out in the Auction 1000 Application Procedures Public Notice, 80 FR 66429, October 29, 2015, remain unchanged. Additional information for potential broadcast incentive auction participants is available on the Auction 1000 Web site at www.fcc.gov/auctions/1000.

Federal Communications Commission.
Gary D. Michaels,
Deputy Chief, Auctions and Spectrum Access Division, WTB.

[FR Doc. 2016-01980 Filed 2-1-16; 8:45 am]

BILLING CODE 6712-01-P